EQUAL EMPLOYMENT OPPORTUNITY COMMISSION

29 CFR Part 1601

[3046-AB14]

2019 Adjustment of the Penalty for Violation of Notice Posting Requirements; Correction

AGENCY: Equal Employment Opportunity Commission.

ACTION: Final rule; correction and correcting amendment.

SUMMARY: The EEOC is correcting the RIN Number of its item titled “2019 Adjustment of the Penalty for Violation of Notice Posting Requirements,” and adding to the authority citation to identify the statutory authority for the EEOC to make adjustments to the penalty for violating notice posting requirements.

DATES: Effective February 27, 2020.

FOR FURTHER INFORMATION CONTACT: Raymond L. Peeler, Assistant Legal Counsel, at (202) 663-4537 or John Gwynn, Attorney-Advisor, at (202) 663-4177. Requests for this notice in an alternative format should be made to the Office of Communications and Legislative Affairs at (202) 663-4191 (voice), 1-800-669-6820 (TTY), 1-844-234-5122 (ALS Video Phone), or the Publications Information Center at 1-800-669-3362 (toll free).

SUPPLEMENTARY INFORMATION: On March 21, 2019, the EEOC's 2019 Adjustment of the Penalty for Violation of Notice Posting Requirements was published in the Federal Register. (84 FR 10410). The rule provided notice of an annual inflationary adjustment to the penalty for covered employers that fail to post a notice of employee rights under federal employment anti-discrimination laws as required by the Federal Civil Penalties Inflation Adjustment Act of 1990 (FCPIA), as amended. This publication also inadvertently repeated an old regulatory identification number (RIN) from a past year's penalty adjustment. The correct RIN number for this item is 3046-AB14.

As discussed in March 21 publication's preamble, the FCPIA, as amended by the Debt Collection Improvement Act of 1996 and the Federal Civil Penalties Inflation Adjustment Act Improvements Act of 2015, requires federal agencies, including the EEOC, to issue regulations adjusting for inflation the maximum civil penalty that may be imposed pursuant to its statutes. This publication also adds the authority for making these adjustments to the statutory authority for 29 CFR part 1601.

Regulatory Procedures

The Commission finds that public notice-and-comment on this rule is unnecessary, because the revision makes no substantive change; it merely corrects the RIN identifier to ease any effort by the public to locate this regulation on regulations.gov and to distinguish the 2019 penalty adjustment from those made in other years. It additionally adds to the list of authorities for the regulation to increase the transparency of all statutes that the EEOC relies upon in issuing its procedural regulations at 29 CFR part 1601. The correction is therefore exempt from the notice-and-comment requirements of 5 U.S.C. 553(b) under 5 U.S.C. 553(b)(B).

This technical correction also is not “significant” for purposes of Executive Order 12866, as reaffirmed by E.O. 13563, and therefore is not subject to review by Office of Management and Budget.

Regulatory Analysis

Since this technical correction contains no substantive changes to the law, the EEOC certifies that it contains no new information collection requirements subject to review by the Office of Management and Budget under the Paperwork Reduction Act (44 U.S.C. chapter 35), it requires no formal cost-benefit analysis pursuant to E.O. 12866, it creates no significant impact on small business entities subject to review under the Regulatory Flexibility Act, and it imposes no new economic burden requiring further analysis under the Unfunded Mandates Reform Act of 1995.

Congressional Review Act

This Correction concerns a penalty adjustment that is a “rule” for purposes of the Congressional Review Act, but not a major rule. As a result, this Correction, with the original penalty adjustment appended, was provided to Congress and the General Accountability Office pursuant to the requirements of 5 U.S.C. 801 shortly before publication of this correction.

List of Subjects in 29 CFR Part 1601

Administrative practice and procedure.

Accordingly, 29 CFR part 1601 is corrected by making the following correcting amendment:

PART 1601—PROCEDURAL REGULATIONS

1. The authority citation for part 1601 is revised to read as follows:

Authority: 29 U.S.C. 621-634; 28 U.S.C. 2461 note; 5 U.S.C. 301; Pub. L. 99-502; 100 Stat. 3341; Secretary's Order No. 10-68; Secretary's Order No. 11-68; sec. 2 Reorg. Plan No. 1 of 1978, 43 FR 19807; Executive Order 12067, 43 FR 28967.

Dated: January 28, 2020.
For the Commission.
Janet Dhillon,
Chair.

[FR Doc. 2020-02144 Filed 2-26-20; 8:45 am]

BILLING CODE 6570-01-P